DEPARTMENT OF HOMELAND SECURITY

Coast Guard

33 CFR Part 110

[Docket Number USCG-2025-0806]

RIN 1625-AA01

Anchorage Grounds; Columbia River, Longview, Oregon and Washington

AGENCY: Coast Guard, Department of Homeland Security.

ACTION: Notice of proposed rulemaking.

SUMMARY: The Coast Guard is proposing to modify the Longview anchorage by reducing its size to allow completion of the Longview Channel realignment project. This action is necessary to provide commercial vessels with the space needed to safely transit the navigational channel by maximizing the available height clearance of the Lewis and Clark bridge in Longview, WA. We invite your comments on this proposed rulemaking.

DATES: Comments and related material must be received by the Coast Guard on or before February 25, 2026.

ADDRESSES: To submit comments and view available documents, go to https://www.regulations.gov and search for USCG-2025-0806.

FOR FURTHER INFORMATION CONTACT: If you have questions about this proposed rule, contact Lieutenant Commander Jesse Wallace, Sector Columbia River Waterways Management Division, U.S. Coast Guard, 503-572-3524, email SCRWWM@uscg.mil.

SUPPLEMENTARY INFORMATION:

I. Table of Abbreviations

CFR Code of Federal Regulations

COTP Captain of the Port

DHS Department of Homeland Security

FR Federal Register

MTS Marine transportation system

NPRM Notice of proposed rulemaking

§ Section

U.S.C. United States Code

II. Background and Authority

The Coast Guard is proposing to reduce the Longview anchorage to accommodate the Longview Channel realignment in the Columbia River, initiated by the U.S. Army Corps of Engineers. The U.S. Army Corps of Engineers has completed a thorough Longview Channel realignment assessment project. This project was initiated to realign the channel to allow commercial vessels to safely navigate under the Longview bridge at its maximum clearance. This realignment would require the Longview anchorage to be modified, reducing its total area.

The Coast Guard is proposing this rulemaking under authorities in 33 U.S.C. 2071; 46 U.S.C. 70006 and 70034; 33 CFR 1.05-1; and Department of Homeland Security Delegation No. 00170.1, Revision No. 01.3.

III. Discussion of the Rule

The Coast Guard is proposing to reduce the size of the Longview anchorage ground in the Columbia River. In the last several years, commercial vessels transiting the Columbia River Marine Transportation System (MTS) have increased in size. The U.S. Army Corps of Engineers has taken steps to ensure the continued safe navigation of this vital waterway by completing the Longview Channel realignment project. To allow for this channel realignment, the U.S. Coast Guard would reduce the size of the Longview anchorage. An image depicting the affected area can be viewed in the docket. The revised coordinates we are proposing for the reduced size of the Longview anchorage are found in the regulatory text below.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. Section 605 of the RFA allows an agency to certify a rule, in lieu of preparing an analysis, if the rulemaking is not expected to have a significant economic impact on a substantial number of small entities. The Coast Guard certifies under 5 U.S.C. 605(b) that this proposed rule would not have a significant economic impact on a substantial number of small entities for the following reasons.

Vessels will be able to safely navigate the channel while retaining the ability anchor in the modified anchorage ground.

If you think that your business, organization, or governmental jurisdiction qualifies as a small entity and that this proposed rule would have a significant economic impact on it, please submit a comment (see ADDRESSES) explaining why you think it qualifies and how and to what degree this proposed rule would economically affect it.

Under section 213(a) of the Small Business Regulatory Enforcement Fairness Act of 1996 (Pub. L. 104-121), if this proposed rule will affect your small business, organization, or governmental jurisdiction and you have questions, contact the person listed in the FOR FURTHER INFORMATION CONTACT section. Small businesses may send comments to the Small Business and Agriculture Regulatory Enforcement Ombudsman and the Regional Small Business Regulatory Fairness Boards by calling 1-888-REG-FAIR (1-888-734-3247).

B. Collection of Information

This proposed rule will not call for a new collection of information under the Paperwork Reduction Act of 1995 (44 U.S.C. 3501-3520).

C. Federalism and Indian Tribal Governments

We have analyzed this proposed rule under Executive Order 13132, Federalism, and have determined that it is consistent with the fundamental federalism principles and preemption requirements described in that Order.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this proposed rule will not result in an annual expenditure of $100,000,000 or more (adjusted for inflation) by a State, local, or tribal government, in the aggregate, or by the private sector.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This proposed rule is an anchorage. It is categorically excluded from further review under paragraph L59(b) of Appendix A, Table 1 of DHS Instruction Manual 023-01-001-01, Rev. 1. A draft Record of Environmental Consideration supporting this determination is available in the docket.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0806 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects in 33 CFR Part 165

Anchorage grounds.

For the reasons discussed in the preamble, the Coast Guard is proposing to amend 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1, Revision No. 01.3.

2. Revise 33 CFR 110.228(a)(3) to read as follows:

§ 110.228 Columbia River, Oregon and Washington.

(a) * * *

(3) Longview Anchorage. An area enclosed by a line connecting the following points:

Latitude (N) | Longitude (W)
46°06′28.69″ | 122°57′38.33″
46°06′41.71″ | 122°58′01.25″
46°07′22.55″ | 122°59′00.81″
46°07′36.21″ | 122°59′19.29″
46°07′28.44″ | 122°59′31.18″
46°07′14.77″ | 122°59′12.70″
46°06′52.52″ | 122°58′42.62″
46°06′36.96″ | 122°58′16.72″
46°06′28.87″ | 122°58′00.09″
46°06′22.44″ | 122°57′43.27″

* * * * *

A. Avanni,
Rear Admiral, U.S. Coast Guard, Commander, Coast Guard Northwest District.

[FR Doc. 2026-01401 Filed 1-23-26; 8:45 am]

BILLING CODE 9110-04-P